DEPARTMENT OF TRANSPORTATION

National Highway Traffic Safety Administration

[Docket No. NHTSA-2021-0045; Notice 1]

Vermeer Manufacturing Company, Receipt of Petition for Decision of Inconsequential Noncompliance

AGENCY: National Highway Traffic Safety Administration (NHTSA), Department of Transportation (DOT).

ACTION: Receipt of petition.

SUMMARY: Vermeer Manufacturing Company (“Vermeer”) has determined that certain Model Year (MY) 2006-2021 Vermeer, Vac-Tron, and McLaughlin trailers manufactured by its subsidiary, Vermeer MV Solutions, Inc. (including its predecessors in interest Mclaughlin Group, Inc. and Vac-Tron Equipment, LLC) do not fully comply with Federal Motor Vehicle Safety Standard (FMVSS) No. 110, Tire Selection and Rims and Motor Home/Recreation Vehicle Trailer Load Carrying Capacity Information for Motor Vehicles with a GVWR of 4,536 Kilograms (10,000 Pounds) or Less. Vermeer filed a noncompliance report dated April 26, 2021, and amended it on May 14, 2021, and May 20, 2021. Simultaneously, Vermeer petitioned NHTSA on May 20, 2021, and amended it on June 10, 2021, for a decision that the subject noncompliance is inconsequential as it relates to motor vehicle safety. This notice announces receipt of Vermeer's petition.

DATES: Send comments on or before July 18, 2022.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Ahmad Barnes, Office of Vehicle Safety Compliance, NHTSA, (202) 366-7236.

SUPPLEMENTARY INFORMATION:

I. Overview

Vermeer has determined that certain MY 2006-2021 Vermeer, Vac-Tron, and McLaughlin trailers do not fully comply with the requirements of paragraph S4.3.5 of FMVSS No. 110, Tire Selection and Rims and Motor Home/Recreation Vehicle Trailer Load Carrying Capacity Information for Motor Vehicles with a GVWR of 4,536 Kilograms (10,000 Pounds) or Less (49 CFR 571.110). Vermeer filed an original noncompliance report dated April 26, 2021, and amended it on May 14, 2021, and May 20, 2021. Vermeer simultaneously petitioned NHTSA on May 20, 2021, and amended it on June 10, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Vermeer's petition is published under 49 U.S.C. 30118 and 30120 and does not represent any Agency decision or other exercise of judgment concerning the merits of the petition.

II. Trailers Involved

Approximately 1,308 of the following MY 2006-2021 Vermeer, Vac-Tron, and McLaughlin trailers, manufactured by Vermeer's subsidiary, Vermeer MV Solutions, Inc. (including its predecessors in interest Mclaughlin Group, Inc. and Vac-Tron Equipment, LLC) between March 1, 2006, and April 28, 2021, are potentially involved:

• MY 2021 Vermeer LPMINI

• MY 2014-2021 Vac-Tron LPMINI

• MY 2021 Vermeer LPMINIXDT

• MY 2019-2021 Vac-Tron LPSDT

• MY 2021 Vermeer LPSDT

• MY 2019-2020 Vac-Tron LPSGT

• MY 2021 Vermeer LPSGT

• MY 2019-2021 Vac-Tron LPXDT

• MY 2014-2020 Vac Tron LPMINIXDT

• MY 2015-2019 Vac Tron LP573XDT

• MY 2015 Vac-Tron CS530GT

• MY 2013 Vac-Tron CS555GT

• MY 2016-2018 Vac-Tron CS570GT

• MY 2018 Vac-Tron CS573GT

• MY 2017-2018 Vac-Tron CV570GT

• MY 2017-2018 Vac-Tron CV570SGT

• MY 2016-2018 Vac-Tron CV573GT

• MY 2016-2019 Vac-Tron CV573SGT

• MY 2019-2021 Vac-Tron CVGT

• MY 2021 Vermeer CVGT

• MY 2019-2021 Vac-Tron CVSGT

• MY 2021 Vermeer LPXDT

• MY 2021 Vermeer CVSGT

• MY 2016 Vac-Tron EV150DT

• MY 2011-2019 Vac-Tron EV150GT

• MY 2019-2021 Vac Tron EVGT

• MY 2006 Vac-Tron FM150SGT

• MY 2008 Vac-Tron FM350SDT

• MY 2011-2018 Vac-Tron JETTERTLR

• MY 2013-2017 Vac-Tron LP303GT

• MY 2016 Vac-Tron LP303XDT

• MY 2011-2013 Vac-Tron LP305DT

• MY 2012 Vac-Tron LP305GT

• MY 2014 Vac-Tron LP333DT

• MY 2014-2015 Vac-Tron LP333GT

• MY 2011-2012 Vac-Tron LP355DT

• MY 2013 Vac-Tron LP355GT

• MY 2018 Vac-Tron LP370XDT

• MY 2015-2019 Vac-Tron LP373GT

• MY 2016-2018 Vac-Tron LP373SGT

• MY 2017 Vac-Tron AIR373SDT

• MY 2017-2018 Vac-Tron LP373XDT

• MY 2013 Vac-Tron LP500DT

• MY 2011 Vac-Tron LP500GT

• MY 2013-2017 Vac-Tron LP533SDT

• MY 2015 Vac-Tron LP533SGT

• MY 2011-2012 Vac-Tron AIR555SDT

• MY 2016-2018 Vac-Tron AIR573SDT

• MY 2019 Vac-Tron AIRSDT

• MY 2012 Vac-Tron CS350GT

• MY 2021 Vermeer CS418B

• MY 2012-2016 Vac-Tron CS500DT

• MY 2011-2015 Vac-Tron CS500GT

• MY 2012 Vac-Tron LP550SDT

• MY 2011-2013 Vac-Tron LP555DT

• MY 2009-2013 Vac-Tron LP555SDT

• MY 2016 Vac-Tron LP573GT

• MY 2015-2019 Vac-Tron LP573SDT

• MY 2015-2018 Vac-Tron LP573SGT

• MY 2016-2021 McLaughlin CS418B

• MY 2015-2019 McLaughlin V25G

• MY 2014-2020 McLaughlin VX30

• MY 2014-2019 McLaughlin VX30G

• MY 2014-2021 McLaughlin VX50

• MY 2008 McLaughlin V250

• MY 2013-2014 McLaughlin V500LEG

• MY 2012-2014 McLaughlin V500LELT

• MY 2012-2014 McLaughlin V500LELTHD

• MY 2007 McLaughlin V500LT

III. Noncompliance

Vermeer explains that the noncompliance is that the subject trailers are not equipped with vehicle placards as required by paragraph S4.3.5 of FMVSS No. 110.

IV. Rule Requirements

Paragraph S4.3.5 of FMVSS No. 110 includes the requirements relevant to this petition. Each trailer, except for an incomplete vehicle, must show the information specified in S4.3 (c) through (g) and may show the information specified in paragraphs S4.3 (h) and (i), on a placard permanently affixed proximate to the certification label specified in 49 CFR part 567. Additionally, each trailer must on its placard contain a cargo capacity statement expressed as “The weight of cargo should never exceed XXX kilograms or XXX pounds” in the same location on the placard specified for the “vehicle capacity weight” statement required by this standard. The information specified in paragraph S4.3 (e) shall be shown on both the vehicle placard and on the tire inflation pressure label (if such a label is affixed to provide the information specified in S4.3 (c), (d), (h), and (i)) in the format and color scheme set forth in Figures 1 and 2.

V. Summary of Vermeer's Petition

The following views and arguments presented in this section, “V. Summary of Vermeer's Petition,” are the views and arguments provided by Vermeer. They have not been evaluated by the Agency and do not reflect the views of the Agency. Vermeer describes the subject noncompliance and contends that the noncompliance is inconsequential as it relates to motor vehicle safety.

Vermeer provided background information about the subject trailers to further explain why it believes the subject noncompliance is inconsequential to safety. Vermeer says that the subject trailers are “used by professional construction companies, not by the general public.” In support, Vermeer cited several decisions NHTSA has published in the past regarding consideration in evaluating inconsequential noncompliance petitions. Vermeer quotes NHTSA as saying that “the issue to consider is the consequence to an occupant who is exposed to the consequence of that noncompliance” ¹ and that NHTSA also considers the “specific facts before it in a particular petition” ² in addition to “whether an occupant who is affected by the noncompliance is likely to be exposed to a significantly greater risk than an occupant in a compliant vehicle [emphasis added by Vermeer].” ³

¹ See General Motors, LLC, Denial of Petition for Decision of Inconsequential Noncompliance, 85 FR 71713 (Nov. 10, 2020); see also General Motors Corp.; Ruling on Petition for Determination of Inconsequential Noncompliance, 69 FR 19897 (Apr. 14, 2004).

² See BMW of North America, LLC; Jaguar Land Rover North America, LLC; and Autoliv, Inc.; Decisions of Petitions for Inconsequential Noncompliance, 84 FR 19994 (May 7, 2019) (citing General Motors, LLC., Grant of Petition for Decision of Inconsequential Noncompliance, 81 FR 92963 (Dec. 20, 2016)).

³ See Cosco Inc.; Denial of Application of Inconsequential Noncompliance, 64 FR 29408 (Jun. 1, 1999).

According to Vermeer, [t]he purpose of the tire placard is informational and not a substantive performance standard, and the missing information is readily available to operators from other sources.” Vermeer notes that along with the required information being readily available in the owner's manual, the missing information from the tire placard can also be found on the tire sidewalls and rims installed on the subject trailers. Vermeer also notes that another source of the missing information would be MyVermeer.com.

Vermeer observes that NHTSA has previously granted inconsequentiality petitions that pertain to a similar noncompliance as the subject petition. These include:

• See Mercedes-Benz USA, LLC, Grant of Petition for Decision of Inconsequential Noncompliance, 84 FR 25118 (May 30, 2019);

• See General Motors, LLC, Grant of Petition for Decision of Inconsequential Noncompliance, 84 FR 25117 (May 30, 2019);

• See Mercedes-Benz USA, LLC, Grant of Petition for Decision of Inconsequential Noncompliance, 82 FR 5640 (January 18, 2017);

• See Volkswagen Group of America, Inc., Grant of Petition for Decision of Inconsequential Noncompliance, 81 FR 88728 (December 8, 2016);

• See Volkswagen Group of America, Grant of Petition for Decision of Inconsequential Noncompliance, 81 FR 28935 (May 10, 2016);

• See Chrysler Group, LLC, Grant of Petition for Decision of Inconsequential Noncompliance, 81 FR 30607 (May 17, 2016);

• See BMW of North America, LLC, Grant of Petition for Decision of Inconsequential Noncompliance, 78 FR 76408 (December 17, 2013);

• See Chrysler Group, LLC, Grant of Petition for Decision of Inconsequential Noncompliance, 78 FR 38443 (June 26, 2013); and

• See Hyundai-Kia America Technical Center, Inc., Grant of Petition for Decision of Inconsequential Noncompliance, 78 FR 38445 (June 26, 2013).

Vermeer emphasized that the operators of the subject trailers “would be experienced with and knowledgeable about these trailers.” Vermeer says that the granting of an inconsequentiality petition submitted by Chrysler Group supports this assertion.⁴

⁴ See Chrysler Group, LLC, Grant of Petition for Decision of Inconsequential Noncompliance; 81 FR 30607 (May 17, 2016).

Last, Vermeer contends that the subject trailers meet all of the other requirements with FMVSS No. 110 and that Vermeer “is not aware of any complaints, claims, or incidents related to the subject noncompliance.”

Vermeer concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject trailers that Vermeer no longer controlled at the time it determined that the noncompliance existed.

However, any decision on this petition does not relieve vehicle distributors and dealers of the prohibitions on the sale, offer for sale, or introduction or delivery for introduction into interstate commerce of the noncompliant trailers under their control after Vermeer notified them that the subject noncompliance existed.

(Authority: 49 U.S.C. 30118, 30120: delegations of authority at 49 CFR 1.95 and 501.8)

Otto G. Matheke, III,
Director, Office of Vehicle Safety Compliance.

[FR Doc. 2022-13078 Filed 6-16-22; 8:45 am]

BILLING CODE 4910-59-P